DEPARTMENT OF THE INTERIOR

Bureau of Ocean Energy Management

Notice To Resume the Preparation of a Final Environmental Impact Statement for the Construction and Operations Plan for Vineyard Wind LLC

AGENCY: Bureau of Ocean Energy Management, Interior.

ACTION: Notice to resume the preparation of a final environmental impact statement.

SUMMARY: The Bureau of Ocean Energy Management (BOEM) is resuming the preparation of a final environmental impact statement (FEIS) for the Construction and Operations Plan (COP) submitted by Vineyard Wind LLC (Vineyard Wind) concerning the construction and operation of an 800-megawatt wind energy facility offshore Massachusetts (Vineyard Wind 1 Project or Project).

DATES: Preparation of the FEIS resumed after BOEM completed its independent review of information provided in Vineyard Wind's January 22, 2021, letter.

FOR FURTHER INFORMATION CONTACT: For further information, please contact: Michelle Morin, BOEM, Office of Renewable Energy Programs, 45600 Woodland Road, Sterling, Virginia 20166, (703) 787-1722 or michelle.morin@boem.gov.

SUPPLEMENTARY INFORMATION: In December 2017, Vineyard Wind submitted a COP to BOEM for the Vineyard Wind 1 Project. On December 7, 2018, BOEM published a draft EIS for the proposed Project in accordance with the National Environmental Policy Act (NEPA), as amended (42 U.S.C. 4321 et seq.). On June 12, 2020, BOEM published a supplement to the draft EIS in response to requests from the public, Federal agencies, and stakeholders for an expanded cumulative analysis and an analysis of fishing data previously unavailable to BOEM. On December 1, 2020, Vineyard Wind withdrew the COP “from further review and decision-making by BOEM pursuant to 30 CFR 585.628” to conduct additional technical and logistical reviews associated with the inclusion of the General Electric Haliade-X wind turbine generator in the final project design. In its letter, Vineyard Wind stated that it required additional time to review updated project parameters to confirm that the parameters fell within the project design envelope previously reviewed during the BOEM NEPA analysis.

In response to Vineyard Wind's December 1, 2020, letter, BOEM published a Federal Register notice on December 16, 2020, informing the public that “preparation of an Environmental Impact Statement” for the COP was “no longer necessary” for the sole reason that “the COP ha[d] been withdrawn from review and decisionmaking.” See 85 FR 81486 (Dec. 16, 2020). Accordingly, BOEM “terminated” the “preparation and completion” of the EIS. Id.

On January 22, 2021, Vineyard Wind notified BOEM via letter that it had completed its technical and logistical due diligence review and had concluded that inclusion of the Haliade-X turbines did not warrant any modifications to the COP. Vineyard Wind therefore informed BOEM that it was rescinding its temporary withdrawal and asked BOEM to resume its review of the COP. Because Vineyard Wind has indicated that its proposed COP is “a decision pending before BOEM,” BOEM is resuming its review of the COP under NEPA. Id. Vineyard Wind's COP and BOEM's draft and supplemental EISs can be found at: https://www.boem.gov/vineyard-wind.

Authority: This notice was prepared under NEPA (42 U.S.C. 4321 et seq.) and is published in accordance with Council on Environmental Quality regulations (40 CFR parts 1500-508).

William Y. Brown,
Chief Environmental Officer, Bureau of Ocean Energy Management.

[FR Doc. 2021-04392 Filed 3-2-21; 8:45 am]

BILLING CODE 4310-MR-P